DEPARTMENT OF ENERGY

Federal Energy Regulatory Commission

[Docket No. EL18-170-000]

DC Energy, LLC v. PJM Interconnection, L.L.C.; Notice of Request for Comments

On June 4, 2018, pursuant to sections 206 and 306 of the Federal Power Act (FPA), and Rule 206 of the Commission's Rules of Practice and Procedure, DC Energy, LLC (DC Energy) filed a complaint in the above captioned proceeding alleging that PJM Interconnection, L.L.C.'s (PJM) then-current collateral and minimum capitalization requirements for Financial Transmission Rights auction participants were unjust and unreasonable. On September 25, 2018, the Commission set the complaint for paper hearing to determine whether, in light of the Commission's acceptance of a volumetric credit requirement in Docket No. ER18-2090-000, PJM's tariff was unjust and unreasonable, to aid in evaluating the complaint.¹

¹ DC Energy, LLC v. PJM Interconnection, L.L.C., 164 FERC ¶ 61,216 (2018).

On November 9, 2018, as renewed on December 10, 2018, April 19, 2019, December 20, 2019, and July 6, 2020, PJM requested that the Commission hold its proceedings in abeyance and allow additional time for its stakeholder processes to continue to review and make revisions to its credit requirements. No party objected to holding the proceedings in abeyance.

By this notice, the Commission requests comment regarding: (1) whether issues remain outstanding in this proceeding; (2) what those issues are; and (3) whether, if issues remain outstanding, the Commission should continue to hold the complaint in abeyance in light of any ongoing PJM stakeholder proceedings or for other reasons. If there are no further outstanding issues in this proceeding, please explain how each of the issues that were raised in this proceeding have been addressed (e.g., through other filings the Commission has accepted in the interim, etc.). Comments must be submitted on or before 30 days from the date of this notice.

Comments may be filed electronically via the internet.² Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

² See 18 CFR 385.2001(a)(1)(iii) (2021).

Dated: February 6, 2023.
Debbie-Anne A. Reese,
Deputy Secretary.

[FR Doc. 2023-02891 Filed 2-9-23; 8:45 am]

BILLING CODE 6717-01-P